DEPARTMENT OF AGRICULTURE

Grain Inspection, Packers and Stockyards Administration

9 CFR Part 201

RIN 0580-AB07

Implementation of Regulations Required Under Title XI of the Food, Conservation and Energy Act of 2008; Conduct in Violation of the Act

AGENCY: Grain Inspection, Packers and Stockyards Administration, USDA.

ACTION: Proposed rule; extension of comment period.

SUMMARY: The Department of Agriculture (USDA), Grain Inspection, Packers and Stockyards Administration (GIPSA) is proposing to add several new sections to the regulations under the Packers and Stockyards Act, 1921, as amended and supplemented (P&S Act). The new regulations that GIPSA is proposing would describe and clarify conduct that violates the P&S Act and allow for more effective and efficient enforcement by GIPSA. The proposed regulations would clarify conditions for industry compliance with the P&S Act and provide for a fairer market place.

DATES: We will consider comments we receive by November 22, 2010.

ADDRESSES: We invite you to submit comments on this proposed rule. You may submit comments by any of the following methods:

• E-mail: comments.gipsa@usda.gov.

• Mail: Tess Butler, GIPSA, USDA, 1400 Independence Avenue, SW., Room 1643-S, Washington, DC 20250-3604.

• Fax: (202) 690-2173.

• Hand Delivery or Courier: Tess Butler, GIPSA, USDA, 1400 Independence Avenue, SW., Room 1643-S, Washington, DC 20250-3604.

• Federal e-Rulemaking Portal: http://www.regulation.gov. Follow the on-line instructions for submitting comments.

Instructions: All comments will become a matter of public record and should be identified as “Farm Bill Comments,” making reference to the date and page number of this issue of the Federal Register. Comments will be available for public inspection at http://www.regulations.gov and in the above office during regular business hours (7 CFR 1.27(b)). Please call GIPSA Management Support Services staff at (202) 720-7486 to arrange a public inspection of comments.

FOR FURTHER INFORMATION CONTACT: S. Brett Offutt, Director, Policy and Litigation Division, P&SP, GIPSA, 1400 Independence Ave., SW., Washington, DC 20250, (202) 720-7363, s.brett.offutt@usda.gov.

SUPPLEMENTARY INFORMATION:

Background

The Department of Agriculture, Grain Inspection, Packers and Stockyards Administration (GIPSA) published a proposed rule in the Federal Register on June 22, 2010 (75 FR 35338) proposing to add several new sections to the regulations under the Packers and Stockyards Act of 1921, as amended and supplemented (P&S Act). The new regulations that GIPSA is proposing would describe and clarify conduct that violates the P&S Act and allow for more effective and efficient enforcement by GIPSA. The proposed regulations would clarify conditions for industry compliance with the P&S Act and provide for a fairer market place. We have received comments asking for an extension of the comment period, and others asking that the comment not be extended. After review, we have decided to extend the comment period until November 22, 2010.

Authority: 7 U.S.C. 181-229, 229c.

Alan R. Christian,
Acting Administrator, Grain Inspection, Packers and Stockyards Administration.

[FR Doc. 2010-18458 Filed 7-26-10; 11:15 am]

BILLING CODE 3410-KD-P